DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping and countervailing duty orders and findings with August anniversary dates. In accordance with Commerce's regulations, we are initiating those administrative reviews.

DATES: Applicable October 4, 2018.

FOR FURTHER INFORMATION CONTACT: Brenda E. Brown, Office of AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various antidumping and countervailing duty orders and findings with August anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at http://access.trade.gov in accordance with 19 CFR 351.303.¹ Such submissions are subject to verification in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the period of review. We intend to place the CBP data on the record within five days of publication of the initiation notice and to make our decision regarding respondent selection within 30 days of publication of the initiation Federal Register notice. Comments regarding the CBP data and respondent selection should be submitted seven days after the placement of the CBP data on the record of this review. Parties wishing to submit rebuttal comments should submit those comments five days after the deadline for the initial comments.

In the event Commerce decides it is necessary to limit individual examination of respondents and conduct respondent selection under section 777A(c)(2) of the Act:

In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this antidumping proceeding (e.g., investigation, administrative review, new shipper review or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at http://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Status Application will be available on Commerce's website at http://enforcement.trade.gov/nme/nme-sep-rate.html on the date of publication of this Federal Register notice. In responding to the Separate Rate Status Application, refer to the instructions contained in the application. Separate Rate Status Applications are due to Commerce no later than 30 calendar days of publication of this Federal Register notice. The deadline and requirement for submitting a Separate Rate Status Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than August 31, 2019.

| Period to be reviewed
Antidumping Duty Proceedings
India: Finished Carbon Steel Flanges, A-533-871 | 2/8/17-7/31/18
Adinath International
Allena Group
Alloyed Steel
Bansidhar Chiranjilal
Bebitz Flanges Works Private Limited
C.D. Industries
CHQ Forge Pvt. Ltd.
CHW Forge
Citizen Metal Depot
Corum Flange
DN Forge Industries
Echjay Forgings Limited
Falcon Valves and Flanges Private Limited
Heubach International
Hindon Forge Pvt. Ltd.
Jai Auto Pvt. Ltd.
Kinnari Steel Corporation
M F Rings and Bearing Races Ltd.
Mascot Metal Manufactures
Norma (India) Ltd.
OM Exports
Punjab Steel Works (PSW)
R. D. Forge
R.N. Gupta & Co. Ltd.
Raaj Sagar Steels
Ravi Ratan Metal Industries
Rolex Fittings India Pvt. Ltd.
Rollwell Forge Pvt. Ltd.
SHM (ShinHeung Machinery)
Siddhagiri Metal & Tubes
Sizer India
Steel Shape India
Sudhir Forgings Pvt. Ltd.
Tirupati Forge
Uma Shanker Khandelwal & Co.
Umashanker Khandelwal Forging Limited
USK Export Private Limited
Italy: Finished Carbon Steel Flanges, A-475-835 | 2/8/17-7/31/18
ASFO S.p.A.
ASFO S.p.A—FOMAS Group
Assotherm srl
Bifrangi S.p.A.
CAT Carpenteria Metallica srl
Costruzione Ricambi Machine Industriali
Filmag Italia S.r.l.
FOC Ciscato S.p.Ar.
FOMAS
Forgia Di Bollate S.p.A.
Forgiatura A. Vienna diAntonio Vienna
Forgital Italy S.p.A.
Franchini Acciai S.p.A.
Galperti Forged Products
Inox Laghi S.r.l.
KIASMA SRL
lml Industria Meccanica Ligure
Martin Valmore srl
M.E.G.A. S.p.A
Metalfar Prodotti Industriali, S.p.A.
Officine Ambrogio Melesi & C. S.R.L.
Officine di Cortabbio s.r.1.
OFFICINE MECCANICHE CIOCCA S.p.A.
Office SANTAFEDE
Siderforgerossi Group S.P.A.
UNIGEN Steel Engineering
VALVITALIA S.p.A.
Malaysia: Polyethylene Retail Carrier Bags, A-557-813 | 8/1/17-7/31/18
Euro SME Sdn Bhd
Mexico: Light-Walled Rectangular Pipe and Tube, A-201-836 | 8/1/17-7/31/18
Aceros Cuatro Caminos S.A. de C.V.
Arco Metal S.A. de C.V.
Fabricaciones y Servicios de Mexico
Galvak, S.A. de C.V.
Grupo Estructuras y Perfiles
Hylsa S.A. de C.V.
Industrias Monterrery S.A. de C.V.
International de Aceros, S.A. de C.V.
Maquilacero S.A. de C.V.
Nacional de Acero S.A. de C.V.
PEASA-Productos Especializados de Acero
Perfiles LM, S.A. de C.V.
Productos Laminados de Monterrey S.A. de C.V.
Regiomontana de Perfiles y Tubos S.A. de C.V.
Talleres Acero Rey S.A. de C.V.
Ternium Mexico S.A. de C.V.
Tuberias Aspe
Tuberia Laguna, S.A. de C.V.
Tuberias y Derivados S.A de C.V.
Republic of Korea: Dioctyl Terephthalate, A-580-889 | 2/3/17-7/31/18
Aekyung Petrochemical
LG Chem, Ltd.
Hanwha Chemical
Republic of Korea: Large Power Transformers, A-580-867 | 8/1/17-7/31/18
Hyosung Heavy Industries Corporation
Hyosung Corporation
Hyundai Electric & Energy Systems Co., Ltd.
Hyundai Heavy Industries Co., Ltd.
ILJIN
Iljin Electric Co., Ltd.
LSIS Co., Ltd.
Romania: Carbon and Alloy Seamless Standard Line and Pressure Pipe, A-485-805 (under 4½ Inches) | 8/1/17-7/31/18
Silcotub S.A.
ArcelorMittal Tubular Products Roman S.A.
SC TMK-Artom S.A.
SC Tubinox S.A.
Socialist Republic of Vietnam: Certain Frozen Fish Fillets, A-552-801 | 8/1/17-7/31/18
An Giang Agriculture and Food Import-Export Joint Stock Company (also known as Afiex, An Giang Agriculture and Foods Import-Export Joint Stock Company, An Giang Agriculture and Food Import-Export Company, An Giang Agriculture and Foods Import and Export Company, or An Giang Agriculture and Foods Import-Export Company)
An Giang Fisheries Import and Export Joint Stock Company (also known as
Agifish, AnGiang Fisheries Import and Export, or An Giang Fisheries Import & Export Joint Stock Company)
An My Fish Joint Stock Company (also known as Anmyfish or Anmyfishco)
An Phat Import-Export Seafood Co., Ltd. (also known as An Phat Seafood Co. Ltd. or An Phat Seafood Co., Ltd.)
An Phu Seafood Corporation (also known as ASEAFOOD or An Phu Seafood Corp.)
Anvifish Joint Stock Company (also known as Anvifish, Anvifish JSC, or Anvifish Co., Ltd.)
Asia Commerce Fisheries Joint Stock Company (also known as Acomfish JSC or Acomfish)
Asia Pangasius Company Limited (also known as ASIA)
Basa Joint Stock Company (BASACO)
Ben Tre Aquaproduct Import and Export Joint Stock Company (also known as Bentre Aquaproduct, Bentre Aquaproduct Import & Export Joint Stock Company, or Aquatex Bentre)
Bentre Forestry and Aquaproduct Import Export Joint Stock Company (also known as Bentre Forestry and Aquaproduct Import and Export Joint Stock Company, Ben Tre Forestry and Aquaproduct Import-Export Joint Stock Company, Ben Tre Forestry and Aquaproduct Import-Export Company, Ben Tre Forestry Aquaproduct Import-Export Company, Ben Tre Frozen Aquaproduct Export Company, or Faquimex)
Bien Dong Hau Giang Seafood Joint Stock Company (also known as Bien Dong HG or
Bien Dong Hau Giang Seafood Joint Stock Co.)
Bien Dong Seafood Company Ltd. (also known as Bien Dong, Bien Dong Seafood, Bien Dong Seafood Co., Ltd., Biendong Seafood Co., Ltd., or Biendong Seafood Limited Liabilty Company)
Binh An Seafood Joint Stock Company (also known as Binh An or Binh An Seafood Joint Stock Co.)
Binh Dinh Import Export Company (also known as Binh Dinh)
Cadovimex II Seafood Import-Export and Processing Joint Stock Company (also known as Cadovimex II, Cadovimex II Seafood Import-Export, Cadovimex II Seafood Import Export and Processing Joint Stock Company, or Cadovimex II Seafood Import-Export & Processing Joint Stock Company)
Cafatex Corporation (also known as Cafatex)
Can Tho Animal Fishery Products Processing Export Enterprise (also known as Cafatex)
Cantho Import-Export Seafood Joint Stock Company (also known as CASEAMEX, Cantho Import Export Seafood Joint Stock Company, Cantho Import-Export Joint Stock Company, Can Tho Import Export Seafood Joint Stock Company, Can Tho Import- Export Seafood Joint Stock Company, or Can Tho Import-Export Joint Stock Company)
C.P. Vietnam Corporation
Cuu Long Fish Import-Export Corporation (also known as CL Panga Fish)
Cuu Long Fish Joint Stock Company (also known as CL-Fish, CL-FISH CORP, or Cuu Long Fish Joint Stock Company)
Da Nang Seaproducts Import-Export Corporation (also known as Da Nang or Da Nang Seaproducts Import/Export Corp.)
Dai Thanh Seafoods Company Limited (also known as DATHACO, Dai Thanh Seafoods, or Dai Thanh Seafoods Co., Ltd.)
East Sea Seafoods LLC (also known as ESS LLC, ESS, ESS JVC, East Sea Seafoods Limited Liability Company, East Sea Seafoods Joint Venture Co., Ltd.)
Europe Joint Stock Company (also known as Europe JSC or EJS CO.)
Fatifish Company Limited (also known as FATIFISH or FATIFISHCO)
Go Dang An Hiep One Member Limited Company
Go Dang Ben Tre One Member Limited Liability Company
GODACO Seafood Joint Stock Company (also known as GODACO, GODACO Seafood J.S.C., GODACO Seafood, or GODOCO_SEAFOOD)
Golden Quality Seafood Corporation (also known Golden Quality, GoldenQuality, GoldenQuality Seafood Corporation, or GOLDENQUALITY)
Green Farms Seafood Joint Stock Company (also known as Green Farms, GreenFarm SeaFoods Joint Stock Company, Green Farms Seafoods Joint Stock Company, or Green Farms Seafood JSC)
Hai Huong Seafood Joint Stock Company (also known as HHFish, HH Fish, or Hai Houng Seafood)
Hiep Thanh Seafood Joint Stock Company (also known as Hiep Thanh or Hiep Thanh Seafood Joint Stock Co.)
Hoa Phat Seafood Import-Export and Processing J.S.C. (also known as HOPAFISH, Hoa Phat Seafood Import-Export and Processing Joint Stock Company, or Hoa Phat Seafood Import-Export and Processing JSC)
Hoang Long Seafood Processing Company Limited (also known as HLS, Hoang Long Seafood, Hoang Long Seafood Processing Co.,Ltd., Hoang Long, or HoangLong Seafood)
Hung Vuong Ben Tre Seafood Processing Company Limited (also known as Ben Tre, HVBT, or HVBT Seafood Processing)
Hung Vuong—Mien Tay Aquaculture Corporation (also known as HVMT or Hung Vuong Mien Tay Aquaculture Joint Stock Company)
Hung Vuong—Sa Dec Co., Ltd. (also known as Hung Vuong Sa Dec Company Limited)
Hung Vuong—Vinh Long Co., Ltd. (also known as Hung Vuong Vinh Long Company Limited)
Hung Vuong Corporation (as known as HVC or HV Corp.)
Hung Vuong Joint Stock Company
Hung Vuong Mascato Company Limited
Hung Vuong Seafood Joint Stock Company
International Development & Investment Corporation (also known as IDI or International Development and Investment Corporation)
Lian Heng Investment Co., Ltd. (also known as Lian Heng Investment or Lian Heng)
Lian Heng Trading Co., Ltd. (also known as Lian Heng or Lian Heng Trading)
Nam Phuong Seafood Co., Ltd. (also known as Nam Phuong, NAFISHCO, Nam Phuong Seafood, or Nam PhuongSeafood Company Ltd.)
Nam Viet Corporation (also known as NAVICO)
Ngoc Ha Co. Ltd. Food Processing and Trading (also known as Ngoc Ha or Ngoc Ha Co., Ltd. Foods Processing and Trading)
Nha Trang Seafoods, Inc. (also known as Nha Trang Seafoods-F89, Nha Trang Seafoods, or Nha Trang Seaproduct Company)
NTACO Corporation (also known as NTACO or NTACO Corp.)
NTSF Seafoods Joint Stock Company (also known as NTSF or NTSF Seafoods)
Quang Minh Seafood Company Limited (also known as Quang Minh, Quang Minh Seafood Co., Ltd., or Quang Minh Seafood Co.)
QVD Dong Thap Food Co., Ltd. (also known as Dong Thap or QVD DT)
QVD Food Company, Ltd. (also known as QVD, QVD Food Co., Ltd., or QVD Aquaculture)
Saigon-Mekong Fishery Co., Ltd. (also known as SAMEFICO or Saigon Mekong Fishery Co., Ltd.)
Seafood Joint Stock Company No. 4 Branch Dongtam Fisheries Processing Company (also known as DOTASEAFOODCO or Seafood Joint Stock Company No. 4-Branch Dong Tam Fisheries Processing Company)
Seavina Joint Stock Company (also known as Seavina)
Southern Fishery Industries Company, Ltd. (also known as South Vina, South Vina Co., Ltd., Southern Fisheries Industries Company, Ltd., Southern Fishery Industries Co., Ltd., or Southern Fisheries Industries Company Limited)
Sunrise Corporation
TG Fishery Holdings Corporation (also known as TG)
Thanh Binh Dong Thap One Member Company Limited (also known as Thanh Binh Dong Thap or Thanh Binh Dong Thap Ltd.)
Thanh Hung Co., Ltd. (also known as Thanh Hung Frozen Seafood Processing Import Export Co., Ltd. or Thanh Hung)
Thien Ma Seafood Co., Ltd. (also known as THIMACO, Thien Ma, Thien Ma Seafood Company, Ltd., or Thien Ma Seafoods Co., Ltd.)
Thuan An Production Trading and Service Co., Ltd. (also known as TAFISHCO, Thuan An Production Trading and Services Co., Ltd., Thuan An Production & Trading Service Co., Ltd., or Thuan An Production & Trading Services Co., Ltd.)
Thuan Hung Co., Ltd. (also known as THUFICO)
To Chau Joint Stock Company (also known as TOCHAU, TOCHAU JSC, or TOCHAU Joint Stock Company)
Van Duc Food Export Joint Stock Company (also known as Van Duc)
Van Duc Tien Giang Food Export Company (also known as VDTG)
Viet Hai Seafood Company Limited (also known as Viet Hai, Vietnam Fish-One Co., Ltd. Viet Hai Seafood Co., Viet Hai Seafood Co., Ltd., Vietnam Fish One Co., Ltd., or Fish One)
Viet Phu Foods and Fish Corporation (also known as Vietphu, Viet Phu, Viet Phu Food and Fish Corporation, or Viet Phu Food & Fish Corporation)
Viet Phu Foods & Fish Co., Ltd.
Vinh Hoan Corporation (also known as Vinh Hoan, Vinh Hoan Co., or Vinh Hoan Corp.)
Vinh Long Import-Export Company (also known as Vinh Long, Imex Cuu Long or Vinh Long Import/Export Company)
Vinh Quang Fisheries Corporation (also known as Vinh Quang, Vinh Quang Fisheries Joint Stock Company, Vinh Quang Fisheries Co.,Ltd., or Vinh Quang Fisheries Corp.)
The People's Republic of China: Certain Passenger Vehicle and Light Truck Tires, A-570-016 | 8/1/17-7/31/18
Anhui Jichi Tire Co., Ltd.
Bridgestone (Tianjin) Tire Co., Ltd.
Bridgestone Corporation
Cooper (Kunshan) Tire Co., Ltd.
Crown International Corporation
Fleming Limited
Guangrao Taihua International Trade Co., Ltd.
Hankook Tire China Co., Ltd.
Haohua Orient International Trade Ltd.
Jingsu Hankook Tire Co., Ltd.
Kenda Rubber (China) Co., Ltd.
Kinforest Tyre Co., Ltd.
Macho Tire Corporation Limited
Mayrun Tyre (Hong Kong) Limited
Pirelli Tyre Co., Ltd.
Qingdao Fullrun Tyre Corp., Ltd.
Qingdao Jinhaoyang International Co., Ltd.
Qingdao Keter International Co., Limited
Qingdao Lakesea Tyre Co., Ltd.
Qingdao Odyking Tyre Co., Ltd.
Qingdao Sunfulcess Tyre Co., Ltd.
Qingdao Transamerica Tire Industrial Co., Ltd.
Qingzhou Detai International Trading Co., Ltd.
Riversun Industry Limited
Safe&Well (HK) International Trading Limtied
Shandong Achi Tyres Co., Ltd.
Shandong Anchi Tryes Co., Ltd.
Shandong Duratti Rubber Corporation Co., Ltd.
Shandong Guofeng Rubber Plastics Co., Ltd.
Shandong Haohua Tire Co., Ltd.
Shandong Hengyu Science & Technology Co., Ltd.
Shandong Hongsheng Rubber Technology Co., Ltd.
Shandong Longyue Rubber Co., Ltd.
Shandong New Continent Tire Co., Ltd.
Shandong Province Sanli Tire Manufactured Co., Ltd.
Shandong Wanda Boto Tyre Co., Ltd.
Shengtai Group Co., Ltd.
Shouguang Firemax Tyre Co., Ltd.
Tianjin Wanda Tyre Group Co., Ltd.
Triangle Tyre Co., Ltd.
Tyrechamp Group Co., Limited
Windforce Tyre Co., Limited
Winrun Tyre Co., Ltd.
The People's Republic of China: Certain Steel Nails, A-570-909 | 8/1/17-7/31/18
Air It on Inc.
A-Jax Enterprises Ltd.
A-Jax International Co. Ltd.
Anhui Amigo Imp. & Exp. Co. Ltd.
Anhui Tea Imp. & Exp. Co. Ltd.
Anjing Caiquing Hardware Co., Ltd.
Astrotech Steels Pvt. Ltd.
Beijing Catic Industry Ltd.
Beijing Qin-Li Jeff Trading Co., Ltd.
Bodi Corporation
Cana (Rizhou) Hardward Co. Ltd.
Cangzhou Xinqiao Int'l Trade Co. Ltd.
Certified Products Taiwan Inc.
Changzhou Kya Trading Co. Ltd.
Chia Pao Metal Co. Ltd.
China Dinghao Co. Ltd.
China Staple Enterprise Co. Ltd.
Chinapack Ningbo Imp. & Exp. Co. Ltd.
Chite Enterprise Co. Ltd.
Crelux Int'l Co. Ltd.
Daejin Steel Co. Ltd.
Dezhou Hualude Hardware Products Co. Ltd.
Dingzhou Baota Metal Products Co. Ltd.
Dong E Fuqiang Metal Products Co. Ltd.
Dream Rising Co., Ltd.
Eco-Friendly Floor Ltd.
Ejen Brother Limited
Everglow Inc.
Everleading International Inc.
Faithful Engineering Products Co. Ltd.
Fastening Care
Fastgrow International Co. Inc.
Foshan Hosontool Development Hardware Co. Ltd.
GD CP International Ltd.
GDCP International Co., Ltd.
Geeky Wires Limited
Glori-Industry Hong Kong Inc.
Guangdong Meite Mechanical Co. Ltd.
Guangdong TC Meite Intelligent Tools Co., Ltd.
Hangzhou Orient Industry Co., Ltd.
Hangzhou Spring Washer Co. Ltd.
Hebei Canzhou New Century Foreign Trade Co. Ltd.
Hebei Jindun Trade Co., Ltd.
Hebei Minmetals Co., Ltd.
Hengtuo Metal Products Co. Ltd.
Home International Development Co. Ltd.
Hongyi (HK) Hardware Products Co. Ltd.
Huaiyang County Yinfeng Plastic Factory
Hualude International Development Co. Ltd.
Huanghua Yingjin Hardware Products
Inmax Industries Sdn. Bhd.
ITW Construction Products
Jade Shuttle Enterprise Co. Ltd.
Jiang Men City Yu Xing Furniture Limited Company
Jiangsu General Science Technology Co. Ltd.
Jiangsu Holly Corporation
Jiangsu Huaiyin Guex Tools
Jiangsu Inter-China Group Corp.
Jiangu Soho Honry Imp. and Exp. Co. Ltd.
Jiaxing TSR Hardware Inc.
Jinhai Hardware Co. Ltd.
Jinsco International Corp.
Jinsheung Steel Corporation
Koram Inc.
Korea Wire Co. Ltd.
Liang's Ind. Corp.
Liaocheng Minghui Hardware Products
Linyi FlyingArrow Imp. & Exp. Co Ltd.
M&M Industries Co., Ltd.
Max Co., Ltd.
Milkway Chemical Supply Chain Service Co., Ltd.
Mingguang Abundant Hardware Products Co. Ltd.
Mingguang Ruifeng Hardware Products Co. Ltd.
Modern Factory For Metal Products
Nailtech Co. Ltd.
Nanjing Caiquing Hardware Co. Ltd.
Nanjing Nuochun Hardware Co. Ltd.
Nanjing Yuechang Hardware Co., Ltd.
Nanjing Zeejoe International Trade
Nantong Intlevel Trade Co., Ltd.
Natuzzi China Limited
Nielsen Bainbridge LLC
Ningbo Adv. Tools Co. Ltd.
Ningbo Angelar Trading Co., Ltd.
Ningbo Fine Hardware Production Co. Ltd.
Ningbo Freewill Imp. & Exp Co., Ltd.
Ningbo Sunrise International Ltd.
Ningbo WePartner Imp. & Exp. Co., Ltd.
Overseas Distribution Services Inc.
Overseas International Steel Industry
Paslode Fasteners Co. Ltd.
Patek Tool Co. Ltd.
President Industrial Inc.
Promising Way (Hong Kong) Ltd.
Qingda Jisco Co. Ltd.
Qingdao Ant Hardware Manufacturing Co. Ltd.
Qingdao D&L Hardware Co. Ltd.
Qingdao Gold Dragon Co. Ltd.
Qingdao Hongyuan Nail Industry Co. Ltd.
Qingdao JCD Machinery Co., Ltd.
Qingdao Meijialucky Industry and Co.
Qingdao MST Industry and Commerce Co. Ltd.
Qingdao Top Steel Industrial Co. Ltd.
Qingdao Uni-Trend International
Quzhou Monsoon Hardware Co. Ltd.
Region Industries Co. Ltd.
Region System Sdn. Bhd.
Rise Time Industrial Ltd.
Romp Coil Nail Industries Inc.
R-Time Group Inc.
Ruifeng Hardware Products Co., Ltd.
SDC International Australia Pty. Ltd.
Senco Asia Manufacturing Ltd.
Shandong Dinglong Imp. & Exp. Co., Ltd.
Shandong Liaocheng Minghua Metal Pvt. Ltd.
Shandong Liaocheng Minghua Metal Pvt. Ltd.
Shandong Oriental Cherry Hardware Group Co. Ltd.
Shandong Oriental Cherry Hardware Import & Export Co. Ltd.
Shandong Qingyun Hongyi Hardware Co. Ltd.
Shanghai Cedargreen Imp. & Exp. Co., Ltd.
Shanghai Curvet Hardware Products Co. Ltd.
Shanghai Haoray International Trade Co. Ltd.
Shanghai Jade Shuttle Hardware Tools Co. Ltd.
Shanghai Seti Enterprise Int'l Co. Ltd.
Shanghai Sutek Industries Co., Ltd.
Shanghai Yiren Machinery Co., Ltd.
Shanghai Yueda Fasteners Co., Ltd.
Shanghai Yueda Nails Co. Ltd.
Shanghai Yueda Nails Co. Ltd.
Shanghai Zoonlion Industrial Co., Ltd.
Shanxi Easyfix Trade Co. Ltd.
Shanxi Hairut Trade Co. Ltd.
Shanxi Pioneer Hardware Industrial Co. Ltd.
Shanxi Tianli Industries Co. Ltd.
Shanxi Xinjintai Hardware Co., Ltd.
Shaoxing Chengye Metal Producing Co. Ltd.
Shenzhen Xinjintal Hardware Co. Ltd.
Stanley Black & Decker, Inc.
Sueyi International Ltd.
Suntec Industries Co. Ltd.
Suzhou Xingya Nail Co. Ltd.
Taizhou Dajiang Ind. Co. Ltd.
The Stanley Works (Langfang) Fastening Systems Co., Ltd.
Theps International
Tianji Hweschun Fasteners Manufacturing Co. Ltd.
Tianjin Baisheng Metal Products Co. Ltd.
Tianjin Bluekin Indusries Ltd.
Tianjin Coways Metal Products Co. Ltd.
Tianjin Dagang Jingang Nail Factory
Tianjin Evangel Imp. & Exp. Co. Ltd.
Tianjin Fulida Supply Co. Ltd.
Tianjin Huixingshangmao Co. Ltd.
Tianjin Huixishangmao Co. Ltd.
Tianjin Jin Xin Sheng Long Metal Products Co. Ltd.
Tianjin Jinchi Metal Products Co. Ltd.
Tianjin Jinghai County Hongli Industry and Business Co. Ltd.
Tianjin Jinghai Yicheng Metal Pvt.
Tianjin Jinlin Pharmaceutical Factory
Tianjin Jinmao Imp. & Exp. Corp. Ltd.
Tianjin Lianda Group Co. Ltd.
Tianjin Tianhua Environmental Plastics Co. Ltd.
Tianjin Universal Machinery Imp. & Exp
Tianjin Yong Sheng Towel Mill
Tianjin Yongye Furniture Co. Ltd.
Tianjin Zhonglian Metals Ware Co. Ltd.
Tianjin Zhonglian Times Technology
Tianjin Zhongsheng Garment Co. Ltd.
Tinjin Liweitian Metal Technology
Tinjin Tiaolai Import & Export Company Ltd.
Tsugaru Enterprise Co., Ltd.
Unicore Tianjin Fasteners Co. Ltd.
Verko Incorporated
Win Fasteners Manufactory (Thailand) Co. Ltd.
Wire Products Manufacturing Co., Ltd.
Wulian Zhanpeng Metals Co. Ltd.
Xi'An Metals and Minerals Imp. & Exp. Co. Ltd.
Xiamen Zhaotai Industrial Corp.
Yongchang Metal Product Co.
Youngwoo Fasteners Co., Ltd.
Yuyao Dingfeng Engineering Co. Ltd.
Zhanghaiding Hardware Co., Ltd.
Zhangjiagang Lianfeng Metals Products Co. Ltd.
Zhangjiagang Longxiang Industries Co. Ltd.
Zhaoqing Harvest Nails Co. Ltd.
Zhejiang Best Nail Industry Co. Ltd.
Zhejiang Jihengkang (JHK) Door Ind. Co. Ltd.
Zhejiang Yiwu Yongzhou Imp. & Exp. Co. Ltd.
Zhong Shan Daheng Metal Products Co. Ltd.
Zhong Shan Shen Neng Metals Products Co. Ltd.
Zhucheng Jinming Metal Products Co. Ltd.
Zhucheng Runfang Paper Co. Ltd.
The People's Republic of China: Hydrofluorocarbon Blends, A-570-028 | 8/1/17-7/31/18
Arkema Daikin Advanced Fluorochemicals (Changsu) Co., Ltd.
Daikin Fluorochemcials (China) Co., Ltd.
Dongyang Weihua Refrigerants Co., Ltd.
Jinhua Yonghe Fluorochemical Co., Ltd.
Shandong Huaan New Material Co., Ltd.
Sinochem Environmental Protection Chemicals (Taicang) Co., Ltd.
T.T. International Co., Ltd.
Weitron, Inc.
Weitron International Refrigeration Equipment (Kushan) Co., Ltd.
Zhejiang Lantian Environmental Protection Fluoro Material Co. Ltd.
Zhejiang Quzhou Lianzhou Refrigerants Co., Ltd.
Zhejiang Sanmei Chemica Industry Co., Ltd.
Zhejiang Yonghe Refrigerant Co., Ltd.
Zhejiang Zhonglan Refrigeration Technology Co., Ltd.
The People's Republic of China: Polyethylene Retail Carrier Bags, A-570-886 | 8/1/17-7/31/18
Crown Polyethylene Products (International) Ltd.
Dongguan Nozawa Plastics Products Co., Ltd. and United Power Packaging, Ltd. (collectively Nozawa)
High Den Enterprises Ltd.
Countervailing Duty Proceedings
India: Finished Carbon Steel Flanges, C-533-872 | 11/29/16-12/31/17
Adinath International
Allena Group
Alloyed Steel
Bansidhar Chiranjilal
Bebitz Flanges Works Private Limited
C.D. Industries
CHW Forge
CHW Forge Pvt. Ltd.
Citizen Metal Depot
Corum Flange
DN Forge Industries
Echjay Forgings Limited
Falcon Valves and Flanges Private Limited
Heubach International
Hindon Forge Pvt. Ltd.
Jai Auto Pvt. Ltd.
Kinnari Steel Corporation
M F Rings and Bearing Races Ltd.
Mascot Metal Manufactures
Norma (India) Ltd.
OM Exports
Punjab Steel Works (PSW)
R.D. Forge
R.N. Gupta & Co. Ltd.
R.N. Gupta & Company Limited
Raaj Sagar Steels
Ravi Ratan Metal Industries
Rolex Fittings India Pvt. Ltd.
Rollwell Forge Pvt. Ltd.
SHM (ShinHeung Machinery)
Siddhagiri Metal & Tubes
Sizer India
Steel Shape India
Sudhir Forgings Pvt. Ltd.
Tirupati Forge
Uma Shanker Khandelwal & Co.
Uma Shanker Khandelwal and Co.
Umashanker Khandelwal Forging Limited
USK Export Private Limited
Republic of Korea: Certain Corrsion-Resistant Steel Products,⁴ C-580-879 | 1/1/17-12/31/17
The People's Republic of China: Certain Passenger Vehicle and Light Truck Tires, C-570-017 | 1/1/17-12/31/17
Anhui Jichi Tire Co., Ltd.
Bridgestone (Tianjin) Tire Co., Ltd.
Bridgestone Corporation
Cooper (Kunshan) Tire Co., Ltd.
Dynamic Tire Corp.
Fleming Limited
Guangrao Taihua International Trade Co., Ltd.
Hankook Tire China Co., Ltd.
Haohua Orient International Trade Ltd.
Husky Tire Corp.
Jiangsu Hankook Tire Co., Ltd.
Macho Tire Corporation Limited
Maxon Int'l Co., Limited
Mayrun Tyre (Hong Kong) Limited
Pirelli Tyre Co., Ltd.
Qingdao Fullrun Tyre Corp., Ltd.
Qingdao Jinhaoyang International Co., Ltd.
Qingdao Keter International Co., Limited
Qingdao Lakesea Tyre Co., Ltd.
Qingdao Odyking Tyre Co., Ltd.
Qingdao Sunfulcess Trye Co., Ltd.
Qinzhou Detai International Trading Co., Ltd.
Riversun Industry Limited
Safe&Well (HK) International Trading Limited
Sailun Jinyu Group Co., Ltd.
Sailun Jinyu Group (Hong Kong) Co., Limited
Sailun Tire International Corp.
Seatex International Inc.
Seatex PTE. Ltd.
Shandong Achi Tyres Co., Ltd.
Shandong Anchi Tyres Co., Ltd.
Shandong Duratti Rubber Corporation Co., Ltd.
Shandong Guofeng Rubber Plastics Co., Ltd.
Shandong Haohua Tire Co., Ltd.
Shandong Hengyu Science & Technology Co., Ltd.
Shandong Jinyu Industrial Co., Ltd.
Shandong Longyue Rubber Co., Ltd.
Shandong New Continent Tire Co., Ltd.
Shandong Province Sanli Tire Manufactured Co., Ltd.
Shandong Wanda Boto Tyre Co., Ltd.
Shengtai Group Co., Ltd.
Shouguang Firemax Tyre Co., Ltd.
Triangle Tyre Co., Ltd.
Tyrechamp Group Co., Limited
Windforce Tyre Co., Limited
Winrun Tyre Co., Ltd.
Suspension Agreements
Ukraine: Certain Oil Country Tubular Goods,⁵ A-823-815 | 7/1/17-6/30/18

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

⁴ Dongkuk Steel Mill Co., Ltd. and Union Steel Manufacturing Co., Ltd. are not subject to the countervailing duty order on certain corrosion-resistant steel products (CORE) from the Republic of Korea (see 83 FR 39671 dated August 10, 2018) and were inadvertently included in the initiation notice that published on September 10, 2018 (83 FR 45596). Therefore, these two companies are not subject to the administrative review of the countervailing duty order on CORE from the Republic of Korea that published on September 10, 2018 (83 FR 45596).

⁵ In the initiation notice that published on September 10, 2018 (83 FR 45596), the Department inadvertently omitted the case listed above from the July 2018 anniversary cases for which reviews were requested. This notice serves as a correction to the September initiation notice. In accordance with section 751(a)(3)(A) of the Act, Commerce shall issue its preliminary determination within 245 days after the last day of the month in which occurs the anniversary date of the publication of the suspension agreement for which the review is requested (in this case, July 2018).

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the final rule, available at http://enforcement.trade.gov/frn/2013/1304frn/2013-08227.txt, prior to submitting factual information in this segment.

Any party submitting factual information in an antidumping duty or countervailing duty proceeding must certify to the accuracy and completeness of that information.⁶ Parties are hereby reminded that revised certification requirements are in effect for company/government officials as well as their representatives. All segments of any antidumping duty or countervailing duty proceedings initiated on or after August 16, 2013, should use the formats for the revised certifications provided at the end of the Final Rule.⁷ Commerce intends to reject factual submissions in any proceeding segments if the submitting party does not comply with applicable revised certification requirements.

⁶ See section 782(b) of the Act.

⁷ See Certification of Factual Information To Import Administration During Antidumping and Countervailing Duty Proceedings, 78 FR 42678 (July 17, 2013) (Final Rule); see also the frequently asked questions regarding the Final Rule, available at http://enforcement.trade.gov/tlei/notices/factual_info_final_rule_FAQ_07172013.pdf.

Extension of Time Limits Regulation

Parties may request an extension of time limits before a time limit established under Part 351 expires, or as otherwise specified by the Secretary. See 19 CFR 351.302. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, Commerce may elect to specify a different time limit by which extension requests will be considered untimely for submissions which are due from multiple parties simultaneously. In such a case, Commerce will inform parties in the letter or memorandum setting forth the deadline (including a specified time) by which extension requests must be filed to be considered timely. This modification also requires that an extension request must be made in a separate, stand-alone submission, and clarifies the circumstances under which Commerce will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: September 28, 2018.
James Maeder,
Associate Deputy Assistant Secretary for Antidumping and Countervailing Duty Operations performing the duties of Deputy Assistant Secretary for Antidumping and Countervailing Duty Operations.

[FR Doc. 2018-21617 Filed 10-3-18; 8:45 am]

BILLING CODE 3510-DS-P